DEPARTMENT OF HEALTH AND HUMAN SERVICES

Administration for Children and Families

Proposed Information Collection Activity; Comment Request

Proposed Projects: Grant Reviewer Recruitment.

Title: Grant Reviewer Recruitment Form.

OMB No.: NEW.

Description: The Administration for Children and Families' Children's Bureau (CB) is responsible for administering the review of eligible grant applications submitted in response to funding opportunity announcements issued by CB. CB ensures that the objective review process is independent, efficient, effective, economical, and complies with the applicable statutes, regulations, and policies. Applications are reviewed by subject experts knowledgeable in child welfare and related fields. Review findings are advisory to CB; CB is responsible for making award decisions.

This announcement is a request for approval of the proposed information collection system, the Reviewer Recruitment Module (RRM). CB will use a web-based data collection form and database to gather critical reviewer information in drop down menu format for data such as: Degree, occupation, affiliations with organizations and institutions that serve special populations, and demographic information that may be voluntarily provided by a potential reviewer.

These data elements will help CB find and select expert grant reviewers for objective review committees. The web-based system will permit reviewers to access and update their information at will and as needed. The RRM will be accessible by the general public via https://rrm.grantsolutions.gov/AgencyPortal/cb.aspx.

Respondents: Generally, our reviewers are current or retired professionals with backgrounds in child welfare and related fields and in some instances current or former foster care parents or clients.

Annual Burden Estimates
Instrument | Number of respondents | Number of responses per respondent | Average burden hours per response | Total burden hours
Reviewer recruitment module | 500 | 1 | .25 | 125

Estimated Total Annual Burden Hours: 125.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-25526 Filed 10-24-14; 8:45 am]

BILLING CODE 4184-01-P